CORPORATION FOR NATIONAL AND COMMUNITY SERVICE

Information Collection; Submission for OMB Review; Comment Request

AGENCY: Corporation for National and Community Service, CORP.

ACTION: Notice.

SUMMARY: The Corporation for National and Community Service (hereinafter the “Corporation”) has submitted a public information collection request (ICR) to the Office of Management and Budget (OMB) for review and approval in accordance with the Paper Reduction Act of 1995, Pub. L. 104-13, (44 U.S.C. Chapter 35). Copies of this ICR, with applicable supporting documentation, may be obtained by calling the Corporation for National and Community Service, Bruce Kellogg, at (202) 606-5000, extension 526. Individuals who use a telecommunications device for the deaf (TTY-TDD) may call (800) 833-3722 between the hours of 9 a.m. and 5 p.m. eastern standard time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

An ICR package has been submitted to OMB for consideration concerning two forms, each a proposed revision to an earlier OMB-approved form. They are:

(1) The Forbearance Request Form (OMB #3045-0030), and

(2) The Interest Accrual Form (OMB #3045-0053).

These are the forms by which AmeriCorps members first request postponement, during their term of service, of their obligation to make payments on qualified student loans and then access the interest payment benefit that they have earned by successfully completing their service. Both forms are important for AmeriCorps members who have outstanding qualified student loans during their period of national service.

The document was published in the Federal Register on February 25, 2005, for a 60-day pre-clearance public comment period. Only one organization commented on the proposed revisions to the document. It made numerous suggestions, mostly regarding format and wording, which were incorporated wherever possible into the version now being presented to OMB for consideration. Each form will be individually discussed below.

A. Forbearance Request Form

Type of Review: Renewal.

Agency: Corporation for National and Community Service.

Title: Forbearance Request Form.

OMB Number: 3045-0030.

Agency Number: None.

Affected Public: AmeriCorps members and the holders of their qualified student loans.

Total Respondents: 16,000 annually.

Frequency: Average of once per year of national service per loan.

Average Time per Response: Ten minutes (nine minutes for the AmeriCorps member's section and one minute for certification).

Estimated Total Burden Hours: 2,667 hours.

Total Burden Cost (capital/startup): None.

Total Burden Cost (operating/maintenance): None.

Description

AmeriCorps members may request a suspension of their obligation to repay most qualified student loans not in default during their service period. The purpose of the forbearance is to accommodate the minimal living allowance they receive while they complete their term of service, although interest continues to accrue during this period.

Currently, AmeriCorps members use an OMB-approved form entitled Forbearance Request for National Service to obtain certification that they are in an approved national service position. The form also serves as the borrower's official request to the loan companies for forbearance. Only the loan holder can grant forbearance.

The form was originally developed with the assistance of representatives of several student loan associations. Having a separate form for forbearance based on AmeriCorps service clearly distinguishes that criterion from forbearance requests based on one of the other conditions for which a borrower may be eligible—e.g., military service, employment in certain low income areas, student status.

The Corporation seeks to continue using this particular form, albeit in a revised version. Along with formatting and wording changes to enhance clarity and consistency, the one significant modification designates the authorized program official as the certifying official for the form, in place of the Corporation official. Program certifying officials currently certify member enrollments and exits, and authorize education awards.

The current form is due to expire May 31, 2005.

Analysis of Comments Received During the Public Comment Period

One comment was received from an association of loan servicing organizations. It provided a number of wording and formatting suggestions, most of which have been incorporated in the form. It also recommends a greater use of electronic technology in the loan payment process, a development with which the Corporation concurs.

B. Interest Accrual Form

Type of Review: Renewal.

Agency: Corporation for National and Community Service.

Title: Interest Accrual Form.

OMB Number: 3045-0053.

Agency Number: None.

Affected Public: AmeriCorps members and the holders of their qualified student loans.

Total Respondents: 7,000 annually.

Frequency: Average of once per year of national service per loan.

Average Time per Response: 10 minutes, total (three minutes for the AmeriCorps member to complete the form and seven minutes for the loan holder).

Estimated Total Burden Hours: 1,167 hours.

Total Burden Cost (capital/startup): None.

Total Burden Cost (operating/maintenance): None.

Description

The Corporation's legislation requires that it pay all or a portion of the interest that accrues during a period of national service for those who successfully complete their service and have had their loans in forbearance during the service. The intent is to keep the qualified student loan debt of an AmeriCorps member from increasing during the period of service. Using the current form, AmeriCorps members complete the top section and indicate their dates of service. Then they mail the form to the loan holder who indicates the total amount of interest that accrued during the service period, or indicates a daily accrual rate. The loan holder also adds the address where the payment should be sent and returns the form to the National Service Trust. When the Corporation receives this information, it is reviewed for accuracy and is either paid or returned to the loan holder or lender for additional information.

Along with a number of changes modifying wording and format for greater consistency and clarity, for example, by replacing boxes with lines and restating instructions, the Corporation requests the name of the lending agency be cited in cases where the loan is made by a state agency, in accordance with recent legislative changes.

The current form is due to expire May 31, 2005.

Analysis of Comments Received During the Public Comment Period

One comment was received from an association of loan servicing organizations. It provided a number of wording and formatting suggestions, most of which have been incorporated in the form. It also recommends a greater use of electronic technology in the loan payment process, a development with which the Corporation concurs.

Dated: May 25, 2005.
Ruben Wiley,
Manager, National Service Trust.

[FR Doc. 05-10772 Filed 5-27-05; 8:45 am]

BILLING CODE 6050-$$-P